SMALL BUSINESS ADMINISTRATION

[Disaster Declaration #13050 and #13051]

Kentucky Disaster Number KY-00045

AGENCY: U.S. Small Business Administration.

ACTION: Amendment 1.

SUMMARY: This is an amendment of the Presidential declaration of a major disaster for Public Assistance Only for the Commonwealth of Kentucky (FEMA-4057-DR), dated 03/16/2012.

Incident: Severe Storms, Tornadoes, Straight-line Winds, and Flooding.

Incident Period: 02/29/2012 through 03/03/2012.

Effective Date: 03/20/2012.

Physical Loan Application Deadline Date: 05/15/2012.

Economic Injury (EIDL) Loan Application Deadline Date: 12/17/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the Commonwealth of Kentucky, dated 03/16/2012, is hereby amended to include the following areas as adversely affected by the disaster.

Primary Counties: Ballard, Johnson, Kenton, Larue, Pendleton, Trimble, Wolfe.

All other information in the original declaration remains unchanged.

(Catalog of Federal Domestic Assistance Numbers 59002 and 59008)

James E. Rivera,
Associate Administrator for Disaster Assistance.

[FR Doc. 2012-7654 Filed 3-29-12; 8:45 am]

BILLING CODE 8025-01-P